DEPARTMENT OF LABOR

Employment and Training Administration

[TA-W-71,885]

Clarcor Air Filtration Products, Rockford, IL; Notice of Termination of Investigation

Pursuant to Section 223 of the Trade Act of 1974, as amended, an investigation was initiated in response to a petition filed on July 28, 2009 by a company official on behalf of workers of Clarcor Air Filtration Products, Rockford, Illinois.

The petitioning group of workers is covered by an earlier petition (TA-W-71,844) filed on July 29, 2009 that is the subject of an ongoing investigation for which a determination has not yet been issued. Further investigation in this case would duplicate efforts and serve no purpose; therefore the investigation under this petition has been terminated.

Signed at Washington, DC this 1st day of September 2009.
Elliott S. Kushner,
Certifying Officer, Division of Trade Adjustment Assistance.

[FR Doc. E9-29178 Filed 12-7-09; 8:45 am]

BILLING CODE 4510-FN-P